DEPARTMENT OF TRANSPORTATION

Federal Aviation Administration

Notice of Intent To Rule on Application 04-07-C-00-CMH To Impose and Use the Revenue From a Passenger Facility Charge (PFC) at Port Columbus International Airport, Columbus, OH

AGENCY: Federal Aviation Administration (FAA), DOT.

ACTION: Notice of intent to rule on application.

SUMMARY: The FAA proposes to rule and invits public comment on the application to impose and use the revenue from a PFC at Port Columbus International Airport under the provisions of the 49 U.S.C. 40117 and part 158 of the Federal Aviation Regulations (14 CFR part 158).

DATES: Comments must be received on or before July 9, 2004.

ADDRESSES: Comments on this application may be mailed or delivered in triplicate to the FAA at the following address: Detroit Airports District Office, 11677 South Wayne Road, Suite 107, Romulus, Michigan 48174.

In addition, one copy of any comments submitted to the FAA must be mailed or delivered to Ms. Elaine Roberts, President and Chief Executive Officer of the Columbus Regional Airport Authority at the following address: Port Columbus International Airport, 4600 International Gateway, Columbus, Ohio 43219.

Air carriers and foreign air carriers may submit copies of written commens previously provided to the Columbus Regional Airport Authority under § 158.23 of part 158.

FOR FURTHER INFORMATION CONTACT: Mr. Jason K. Watt, Program Manager, Detroit Airports District Office, 11677 South Wayne Road, Suite 107, Romulus, Michigan 48174, (734 229-2906). The application may be reviewed in person at this same location.

SUPPLEMENTARY INFORMATION: The FAA proposes to rule and invites public comment on the application to impose and use the revenue from a PFC at Port Columbus International Airport under the provisions of the 49 U.S.C. 40117 and part 158 of the Federal Aviation Regulations (14 CFR part 158). On May 10, 2004, the FAA determined that the application to impose and use the revenue from a PFC submitted by the Columbus Regional Airport Authority was substantially complete within the requirements of § 158.25 of part 158. The FAA will approve or disapprove the application, in whole or in part, no later than August 28, 2004.

The following is a brief overview of the application.

Proposed charge effective date: October 1, 2004.

Proposed charge expiration date: October 1, 2010.

Level of the proposed PFC: $3.00.

Total estimated PFC revenue: $3,819,158.

Brief description of proposed projects: Terminal and Curb Front Signage Improvements; Flight Information Display System and Baggage Information Display System Improvements; PFC Program Formulation and Administrative Costs.

Level of the proposed PFC: $4.50.

Total estimated PFC revenue: $73,743,756.

Brief description of proposed projects: Concourse C-Apron Expansion; Concourse C-5-Gate Expansion; Runway 10R Hold Apron Relocation; West Extension of Taxiway B; Runway 10R glide Slope Relocation; Taxiway C Rehabilitation; Antenna Farm Relocation; Terminal Apron Rehabilitation/Glycol Collection; Perimeter and Tug Roads—Phase 1; Runway 10R-28L Rehabilitation; Runway 10R-28L Safety Area Improvements; Security Fencing; Snow Removal Equipment; East Apron Rehabilitation; Safety Are Improvements on Taxiway E; International Gate/Federal Inspection Service Expansion; Rehabilitate East Portion of Apron; Access Control System Replacement.

Class or classes of air carriers, which the public agency has requested not to be required to collect PFCs: Air Taxi/Commercial Operators when enplaning revenue passengers in service and equipment reportable to FAA on FAA Form 1800-31.

Any person may inspect the application in person at the FAA office listed above under FOR FURTHER INFORMATION CONTACT.

In addition, any person may, upon request, inspect the application, notice and other documents germane to the application in person at the Columbus Regional Airport Authority.

Issued in Des Plaines, Illinois, on June 1, 2004.
Sandy Nazar,
Acting Manager, Planning and Programming Branch, Airports Division, Great Lakes Region.

[FR Doc. 04-12988 Filed 6-8-04; 8:45 am]

BILLING CODE 4910-13-M